DEPARTMENT OF COMMERCE

National Oceanic and Atmospheric Administration

[RTID 0648-XA608]

North Pacific Fishery Management Council; Public Meetings

AGENCY: National Marine Fisheries Service (NMFS), National Oceanic and Atmospheric Administration (NOAA), Commerce.

ACTION: Notice of public meetings.

SUMMARY: The North Pacific Fishery Management Council (Council) Groundfish Plan Teams will meet via webconference.

DATES: The meetings will be held on Monday, November 16, 2020 through Friday, November 20, 2020, from 8 a.m. to 4 p.m., Alaska Time.

ADDRESSES: The meeting will be a webconference. Join online through the link at https://meetings.npfmc.org/Meeting/Details/1724.

Council address: North Pacific Fishery Management Council, 1007 W 3rd Ave., Anchorage, AK 99501-2252; telephone: (907) 271-2809. Instructions for attending the meeting are given under SUPPLEMENTARY INFORMATION, below.

FOR FURTHER INFORMATION CONTACT: Sara Cleaver or Steve MacLean, Council staff; phone: (907) 271-2809 and email: sara.cleaver@noaa.gov or Steve.MacLean@noaa.gov. For technical support please contact our administrative staff; email: npfmc.admin@noaa.gov.

SUPPLEMENTARY INFORMATION:

Agenda

Monday, November 16, 2020 to Friday, November 20, 2020

The Bering Sea and Aleutian Islands (BSAI) and Gulf of Alaska (GOA) Plan Teams will compile and review the annual BSAI and GOA Groundfish Stock Assessment and Fishery Evaluation (SAFE) reports, and recommend final groundfish harvest and prohibited species specifications for 2021/22. The Plan Teams will also review the Economic Report and the Ecosystem Status Report and assessments. The agenda is subject to change, and the latest version will be posted at https://meetings.npfmc.org/Meeting/Details/1724. prior to the meeting, along with meeting materials.

Connection Information

You can attend the meeting online using a computer, tablet, or smart phone; or by phone only. Connection information will be posted online at: https://meetings.npfmc.org/Meeting/Details/1724.

Public Comment

Public comment letters should be submitted electronically to https://meetings.npfmc.org/Meeting/Details/1724.

Authority: 16 U.S.C. 1801 et seq.

Dated: October 28, 2020.
Tracey L. Thompson,
Acting Deputy Director, Office of Sustainable Fisheries, National Marine Fisheries Service.

[FR Doc. 2020-24212 Filed 10-30-20; 8:45 am]

BILLING CODE 3510-22-P